FEDERAL RESERVE SYSTEM

Change in Bank Control Notices, Acquisition of Shares of Bank or Bank Holding Companies; Correction

This notice corrects a notice (FR Doc. E6-4134) published on page 14530 of the issue for Wednesday, March 22, 2006.

Under the Federal Reserve Bank of San Francisco heading, the entry for John Chung-Yuan Sun, Judy Chen-Mei Sun, Palos Verdes, California, and Jaclyn Chen-Hoa Sun, New York, New York, is revised to read as follows:

A. Federal Reserve Bank of San Francisco (Tracy Basinger, Director, Regional and Community Bank Group) 101 Market Street, San Francisco, California 94105-1579:

1. John Chung-Yuan Sun, Judy Chen-Mei Sun, Rancho Palos Verdes, California, and Jaclyn Chen-Hoa Sun, New York, New York; to retain voting shares of American Premier Bancorp, Arcadia, California, and thereby indirectly retain voting shares of American Premier Bank, Arcadia, California.

Comments on this application must be received by April 6, 2006.

Board of Governors of the Federal Reserve System, March 22, 2006.
Robert deV. Frierson,
Deputy Secretary of the Board.

[FR Doc. E6-4356 Filed 3-24-06; 8:45 am]

BILLING CODE 6210-01-S